DEPARTMENT OF HEALTH AND HUMAN SERVICES

Administration on Aging

Agency Information Collection Activities; Proposed Collection; Comment Request; Extension of Certification on Maintenance of Effort for the Title III and Minor Revisions to the Certification of Long-Term Care Ombudsman Program Expenditures

AGENCY: Administration on Aging, HHS.

ACTION: Notice

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the Certification on Maintenance of Effort under Title III and Certification of Long-Term Care Ombudsman Program Expenditures for OAA Title III and Title VII Grantees.

DATES: Submit written or electronic comments on the collection of information by May 31, 2011.

ADDRESSES: Submit electronic comments on the collection of information to: Nichlas.Fox@aoa.hhs.gov.

Submit written comments on the collection of information to Administration on Aging, Washington, DC 20201, attention Nichlas Fox.

FOR FURTHER INFORMATION CONTACT: Becky Kurtz, National Long Term Care Ombudsman, Administration on Aging, Washington, DC 20201.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Certification on Maintenance of Effort under Title III and Certification of Long-Term Care Ombudsman Program Expenditures provides statutorily required information regarding State's contribution to programs funded under the Older Americans Act and conformance with legislative requirements, pertinent Federal regulations and other applicable instructions and guidelines issued by Administration on Aging (AoA). This information will be used for Federal oversight of Title III Programs and Title VII Ombudsman Program expenditures.

AoA estimates the burden of this collection of information as follows: 56 State Agencies on Aging respond annually which should be an average burden of one half (½) hour per State agency per year or a total of twenty-eight hours for all State agencies annually. The proposed data collection tools may be found on the AoA Web site for review at http://www.aoa.gov/AoARoot/AoA_Programs/Tools_Resources/Cert_Forms.aspx.

Dated: March 23, 2011.
Kathy Greenlee,
Assistant Secretary for Aging.

[FR Doc. 2011-7301 Filed 3-28-11; 8:45 am]

BILLING CODE 4154-01-P